DEPARTMENT OF COMMERCE

International Trade Administration

C-412-815

Cut-to-Length Carbon Steel Plate from the United Kingdom: Final Results of Full Sunset Review

AGENCY: Import Administration, International Trade Administration, Department of Commerce.

SUMMARY: On November 1, 2005, the Department of Commerce (Department) initiated a sunset review of the countervailing duty (CVD) order on cut-to-length carbon steel plate (CTL plate) from the United Kingdom, pursuant to section 751(c) of the Tariff Act of 1930, as amended (the Act). On the basis of a notice of intent to participate and an adequate substantive response filed on behalf of the domestic interested parties and an adequate response from respondent interested parties, the Department determined to conduct a full sunset review of this CVD order pursuant to section 751(c) of the Act and 19 CFR 351.218(e)(2). On July 19, 2006, the Department published the preliminary results of this review and invited interested parties to comment on those results. See Preliminary Results of Full Sunset Review: Cut-to-Length Carbon Steel Plate From the United Kingdom, 71 FR 40993 (Preliminary Results). Based on our analysis of the comments and the record, the Department finds that revocation of the CVD order on CTL plate from the United Kingdom would not be likely to lead to continuation or recurrence of a countervailable subsidy. Therefore, the Department is revoking this CVD order in accordance with section 751(c) of the Act.

EFFECTIVE DATE: October 4, 2006.

FOR FURTHER INFORMATION CONTACT: Kimberley Hunt or Mark Hoadley, AD/CVD Operations, Office 6, Import Administration, International Trade Administration, U.S. Department of Commerce, 14th Street & Constitution Avenue NW., Washington, DC 20230; telephone: (202) 482-1272 or (202) 482-3148, respectively.

SUPPLEMENTARY INFORMATION:

Background

On November 1, 2005, the Department initiated a sunset review of the CVD order on cut-to-length carbon steel plate from the United Kingdom pursuant to section 751(c) of the Act. See Initiation of Five-year (“Sunset”) Reviews, 70 FR 65884 (November 1, 2005) (Notice of Initiation).

On December 21, 2005, the Department determined that the participation of the respondent interested parties was adequate, and that it was appropriate to conduct a full sunset review. See Memorandum to Stephen J. Claeys, Deputy Assistant Secretary, Import Administration, Re: Adequacy Determination; Sunset Review of the Countervailing Duty Order on Cut-to-Length Carbon Steel Plate from the United Kingdom, on file in CRU. On February 10, 2006, the Department extended the time limit for the preliminary and final results of the sunset review of the CVD order on CTL plate from the United Kingdom (UK) to no later than July 14 and September 27, 2006, respectively. See Cut-to-Length Carbon Steel Plate from Belgium, Sweden, and the United Kingdom; Extension of Time Limits for Preliminary and Final Results of Full Five-year (“Sunset”) Reviews of Countervailing Duty Orders, 71 FR 7017 (February 10, 2006).

On July 19, 2006, the Department published the preliminary results of the full sunset review, finding that revocation of the CVD order would likely lead to continuation or recurrence of a countervailable subsidy and requested case and rebuttal briefs from interested parties. See Preliminary Results.¹ Corus Group plc (Corus)² requested, and the Department granted, an extension of time for the submission of case briefs, hearing requests and rebuttal briefs. See Memorandum to All Interested Parties from Barbara E. Tillman, Office Director, Office of AD/CVD Operations 6, Re: Sunset Review of the Countervailing Duty Orders on Cut-to-length carbon steel plate from the United Kingdom; Extension of time to file case and rebuttal briefs dated July 31, 2006 and on file in CRU.

¹ In the Preliminary Results, with respect to the change in ownership of Glynwed Steel Limited (Glynwed), the Department concluded that the sale of Glynwed was an arm's-length transaction negotiated between unrelated private parties. Thus, the Department concluded that, because it was a private-to-private sale at arm's length and, absent evidence to the contrary, the transaction was for fair market value and the countervailable benefits attributed to Glynwed in the original investigation were extinguished by the change in ownership. See “Final Decision in the Second 129 Proceeding - First Sunset review of the Countervailing Duty Order on Cut-to-Length Carbon Steel Plate from the United Kingdom” dated May 26, 2006 (Second 129) at 15.

² Corus/BS plc relationship: See footnote 2.

On August 4, 2006, the European Union Delegation of the European Commission (EC) submitted its brief on the Department's Preliminary Results. The Department noted that the case reference was incorrect and asked the EC to resubmit its brief with the proper case reference which it did on August 7, 2006. Additionally on August 7, 2006, the Government of the United Kingdom (UKG) and Corus submitted their briefs. These briefs were rebutted by Mittal Steel USA ISG Inc. (Mittal), Nucor Corporation, IPSCO Steel Inc., and Oregon Steel Mills (collectively, petitioners) on August 14, 2006. Niagara LaSalle (UK) Limited (Niagara)³ did not submit comments on the Preliminary Results.

³ Glynwed Steel Limited (Glynwed)/Niagara relationship: See footnote 1.

On August 24, 2006, representatives from the EC and UKG met with representatives from the Department to discuss petitioners' rebuttal brief. A memorandum recording this meeting was placed on the file August 25, 2006. See Memorandum to The File, Re: August 24, 2006 Meeting with the Government of the United Kingdom and the European Commission, dated August 30, 2006.

On September 5 and 7, 2006, pursuant to section 351.104(a)(2) of the Department's regulations, the Department rejected the briefs of the UKG, the EC and Corus because they contained new factual information submitted after the time limit for submitting new factual information had expired. The Department removed the submissions from the record, and requested each party to refile its briefs without the new factual information. See Letters from Barbara E. Tillman, Director, Office of AD/CVD Enforcement 6 to James Hughes, First Secretary of Trade for the Embassy of the United Kingdom dated September 5, 2006; to Nikolaos Zaimis, Counselor - Head of Trade Section for the Delegation of the European Commission dated September 7, 2006; and to Gregory McCue, Esq., Representative of Corus Group plc. dated September 7, 2006, on file in CRU.

On September 8 and September 13, 2006, the EC and the UKG submitted letters to the Department declining the Department's invitation to resubmit their briefs. Because neither the EC's nor the UKG's August 7, 2006 submissions are on the record, pursuant to 19 CFR 351.104, we have not addressed any comments raised in those briefs in making our determination in these final results; we have, however, addressed the arguments made in their September 8 and 13, 2006 letters. For a full discussion of these arguments, see the Issues and Decision Memorandum from Stephen J. Claeys, Deputy Assistant Secretary for Import Administration, to James C. Leonard III, Acting Assistant Secretary for Import Administration, dated concurrently with this notice (Final Decision Memorandum); see also Memorandum to the File Re: Rejection of Submissions from the United Kingdom Government, the European Union Delegation of the European Commission and Corus Group plc from the Record of the Final Results of the Full Sunset Review of the Countervailing Duty Order on Cut-to-Length Carbon Steel Plate from the United Kingdom, dated September 27, 2006. Corus submitted an amended brief on September 11, 2006.

Scope Of The Order

The products covered by this countervailing duty order are certain cut-to-length carbon steel plates from the United Kingdom, including hot-rolled carbon steel universal mill plates (i.e., flat-rolled products rolled on four faces or in a closed box pass, of a width exceeding 150 millimeters but not exceeding 1,250 millimeters and of a thickness of not less than 4 millimeters, not in coils and without patterns in relief), of rectangular shape, neither clad, plated nor coated with metal, whether or not painted, varnished, or coated with plastics or other nonmetallic substances; and certain hot-rolled carbon steel flat-rolled products in straight lengths, of rectangular shape, hot rolled, neither clad, plated, nor coated with metal, whether or not painted, varnished, or coated with plastics or other nonmetallic substances, 4.75 millimeters or more in thickness and of a width which exceeds 150 millimeters and measures at least twice the thickness, as currently classifiable in the United States Harmonized Tariff Schedule (HTSUS) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, and 7212.50.0000. Included are flat-rolled products of non-rectangular cross-section where such cross-section is achieved subsequent to the rolling process (i.e., products which have been “worked after rolling”) - for example, products which have been beveled or rounded at the edges. Excluded is grade X-70 plate. These HTSUS item numbers are provided for convenience and customs purposes. The written description remains dispositive. As a result of a changed circumstances review⁴, the order excludes certain cut-to-length carbon steel plate with a maximum thickness of 80 mm in steel grades BS 7191, 355 EM and 355 EMZ, as amended by Sable Offshore Energy Project specification XB MOO Y 15 0001, types 1 and 2.

⁴ See Certain Cut-to-Length Carbon Steel Plate from Finland, Germany and the United Kingdom: Final Results of Changed Circumstances Antidumping Duty and Countervailing Duty Reviews, and Revocation of Orders in Part, 64 FR 46343 (August 25, 1999)

Analysis Of Comments Received

All issues raised in this review are addressed in the Final Decision Memorandum, dated concurrently with this notice and which is hereby adopted by this notice. The issues discussed in the Final Decision Memorandum include the rejection of untimely submitted new factual information, the likelihood of continuation or recurrence a countervailable subsidy and the net countervailable subsidy likely to prevail. Parties can find a complete discussion of all issues raised in this review and the corresponding recommendation in this public memorandum which is on file in CRU. In addition, a complete version of the Final Decision Memorandum can be accessed directly on the Web at http://ia.ita.doc.gov/frn. The paper copy and electronic version of the Final Decision Memorandum are identical in content.

Final Results Of Review

The Department determines that revocation of the CVD order would not be likely to lead to continuation or recurrence of a countervailable subsidy. As we recognized in the Preliminary Results, three of the six programs previously found to be countervailable have been terminated. For one of the remaining programs, the UK Regional Development Grants (RDG) program, the Department now determines that there is no likelihood that subsidization will continue or recur. In light of the change in our likelihood determination for the RDG program, we have re-examined our preliminary findings for the European Regional Development Fund (ERDF) Aid and the European Coal and Steel Community (ECSC) Article 54 Loans/Interest Rebates programs, the only remaining subsidies that provide a basis for our likelihood determination. As we noted in the Preliminary Results, the combined benefits from those programs have never been above zero. Therefore, we find that there would be no likelihood of continuation or recurrence of a countervailable subsidy were the order to be revoked. See e.g., Final Results of Full Sunset Review: Brass Sheet and Strip from France, 71 FR 10651 (March 2, 2006), and accompanying Issues and Decisions Memorandum. Our full analysis is included in the Final Decision Memorandum.

As a result, we are revoking this order effective December 15, 2005, the fifth anniversary of the date of publication in the Federal Register of the notice of continuation of the CVD order on CTL plate from the UK. See Notice of Continuation of Antidumping and Countervailing Duty Orders on Certain Carbon Steel Products from Australia, Belgium, Brazil, Canada, Finland, France, Germany, Japan, South Korea, Mexico, Poland, Romania, Spain, Sweden, Taiwan, and the United Kingdom, 65 FR 78469 (December 15, 2000). We will notify the International Trade Commission of these results. Furthermore, within 15 days of the publication of this notice, we will instruct U.S. Customs and Border Protection to terminate suspension of liquidation, effective December 15, 2005.

Notification Regarding Administrative Protective Order

This notice also serves as the only reminder to parties subject to administrative protective orders (APO) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

We are issuing and publishing these final results and notice in accordance with sections 751(c), 752, and 777(i)(1) of the Act.

Dated: September 27, 2006.
James C. Leonard III,
Acting Assistant Secretary for Import Administration.

[FR Doc. E6-16393 Filed 10-3-06; 8:45 am]

BILLING CODE 3510-DS-S